DEPARTMENT OF THE INTERIOR

National Park Service

Boundary Revision

AGENCY: National Park Service, Department of the Interior.

ACTION: Notification of Boundary Revision.

SUMMARY: Notice is hereby given that the boundary of Big Thicket National Preserve is modified to include two tracts of land adjacent to the park. This revision is made to include privately owned property that the landowners wish to donate to the United States. The National Park Service has determined that these boundary revisions will make significant contributions to the purpose for which the park was created and will allow the National Park Service complete managerial and law enforcement jurisdiction over these tracts once acquired.

FOR FURTHER INFORMATION CONTACT: National Park Service, Glenna F. Vigil, Chief Land Resources Program Center, Intermountain Region, P.O. Box 728 Santa Fe, New Mexico 87504.

Note: When contacting this office or any government office, before including your address, phone number, e-mail address, or other personal identifying information in your comment, you should be aware that your entire comment—including your personal identifying information—may be made publicly available at any time. While you can ask us in your comment to withhold your personal identifying information from public review, we cannot guarantee that we will be able to do so.

DATES: The effective date of this boundary revision is December 12, 2007.

SUPPLEMENTARY INFORMATION: The Act of October 11, 1974, Pub. L. No. 93-439, 88 Stat. 1254, codified as amended 16 U.S.C. 698 through 698e (2006), established the Big Thicket National Preserve and provides that after notifying the House Committee on Natural Resources and the Senate Committee on Energy and Resources, the Secretary of the Interior is authorized to make these boundary revisions. This action will add two tracts comprising 577.59 acres of land to the Big Thicket National Preserve. The acquisition of these tracts is required to maintain the preserve's natural and ecological integrity. Tract 229-01 containing 562.09 acres and Tract 229-02 containing 15.50 acres are depicted on Segment 229 having drawing no. 175/80,016 dated January 26, 2007.

Dated: August 15, 2007.
Michael D. Snyder,
Director, Intermountain Region.

[FR Doc. E7-24066 Filed 12-11-07; 8:45 am]

BILLING CODE 4312-CB-P